DEPARTMENT OF HOUSING AND URBAN DEVELOPMENT

[Docket No. FR-6256-N-01]

Tribal HUD-VASH Expansion; Notice of Rating Factors

AGENCY: Office of the Assistant Secretary for Public and Indian Housing, HUD.

ACTION: Notice.

SUMMARY: The 2017 Consolidated Appropriations Act provided $7 million for the U.S. Department of Housing and Urban Development (HUD) to use for the Tribal HUD-VASH demonstration program. HUD-VASH is a collaborative program between HUD and the Department of Veterans Affairs (VA) that combines HUD housing vouchers with VA supportive services to help Veterans who are homeless and their families find and sustain permanent housing. The 2017 Appropriations Act also requires HUD to publish in the Federal Register the “need” and “administrative capacity” review and selection criteria HUD includes in the Tribal HUD-VASH Notice of Funding Availability.

This Notice does not provide information on the application process. Those seeking to review all of the NOFA's content and/or apply for funds may do so at https://www.grants.gov/web/grants/view-opportunity.html?oppId=330966.

FOR FURTHER INFORMATION CONTACT: Hilary Atkin, Department of Housing and Urban Development, 451 Seventh Street SW, Room 4108, Washington, DC 20410-8000; telephone (202) 402-3427 (this is not a toll-free number). Individuals with speech or hearing impairments may access this number through TTY by calling the Federal Information Relay Service at (800) 877-8339 (this is a toll-free number).

SUPPLEMENTARY INFORMATION:

I. Background

The Tribal HUD-VA Supportive Housing (Tribal HUD-VASH) demonstration program was established under the Consolidated and Further Continuing Appropriations Act, 2015 (Pub. L. 113-235, approved December 16, 2014) (2015 Appropriations Act), and provides grants to Indian Tribes and Tribally Designated Housing Entities (TDHEs) eligible to receive block grants under the Native American Housing Assistance and Self-Determination Act of 1996 (NAHASDA). Grantees use HUD funding towards rental assistance for Native American Veterans who are homeless or at risk of homelessness, living on or near a reservation or other Indian areas.

The Consolidated Appropriations Act, 2017 (Pub. L. 115-31, approved May 5, 2017) (2017 Appropriations Act) provided HUD with $7 million for the Tribal HUD-VASH demonstration program. Congress directed HUD to use this funding to provide renewal grants to the original Indian Tribes and TDHEs that received funding under the demonstration program. After awarding renewal funding, Congress authorized HUD to use any remaining amounts appropriated to fund new grants.

On May 22, 2018, HUD published a Notice in the Federal Register, titled “Implementation of the Tribal HUD-VA Supportive Housing Program,” 83 FR 23710, that consolidated all Tribal HUD-VASH program requirements, provided application and submission information, and established HUD's procedures for issuing renewal funding subject to the availability of future appropriations. In September 2018, HUD provided the original 26 Indian Tribes and TDHEs participating in the program with $3,765,568 of the $7 million in renewal funding.

In accordance with the 2017 Appropriations Act, HUD published a Notice of Funding Availability (NOFA) on January 15, 2021, announcing the availability of the remaining $3,234,432 in FY 2017 funding for new Tribal HUD-VASH grants and establishing the criteria HUD would use to award these new grants. For Tribal HUD-VASH funds, the 2017 Appropriations Act provides that “funds shall be awarded based on need, and administrative capacity established by the Secretary [of HUD] in a Notice published in the Federal Register . . . .” Public Law 115-31, div. K, tit. II, 131 Stat. 135, 762. This Notice fulfills this requirement by restating the rating criteria HUD established in the NOFA, including Section V.A., “Review Criteria” and Section V.B. on the “Review and Selection Process.”

Those seeking to review all of the NOFA's content, or those seeking to apply for Tribal HUD-VASH funds, may do so at https://www.grants.gov/web/grants/view-opportunity.html?oppId=330966.

II. Tribal HUD-VASH Expansion: Rating Criteria and Review and Selection Process Information

The review criteria and information on the review and selection process contained in Sections V.A. and V.B. in the “Tribal HUD-VASH Expansion” NOFA, published January 15, 2021, at https://www.grants.gov/web/grants/view-opportunity.html?oppId=330966, are reproduced herein:

V. Application Review Information.

A. Review Criteria

1. Rating Factors

The factors for rating and ranking Tribal HUD-VASH applications and the points for each factor are explained below. A maximum of 100 points may be awarded under Rating Factors 1, 2, and 3. To be considered for funding, an application must receive a minimum of 20 points under Rating Factor 1 and 35 points under Rating Factor 3. Applicants that do not meet the minimum score for each of these rating factors are ineligible to receive an award through the competition. Eligible applicants must receive an overall total of at least 75 points to be considered for funding.

Rating factor | Factor title | Points
Rating Factor 1 | CAPACITY OF THE APPLICANT (Minimum of 20 points needed to meet threshold requirement) | 30
Subfactor 1.1 | Managerial and Technical Staff | 6
Subfactor 1.2 | Technical Capacity | 6
Subfactor 1.3 | Findings | 6
Subfactor 1.4 | Timely Reporting | 6
Subfactor 1.5 | Expenditures | 6
Rating Factor 2 | NEED | 20
Subfactor 2.1 | Identified Needs | 10
Subfactor 2.2 | Supporting Information | 5
Subfactor 2.3 | Severity of the Problem | 5
Rating Factor 3 | CAPACITY TO ADMINISTER THE PROGRAM (Minimum of 35 points needed to meet threshold requirement) | 50
Subfactor 3.1 | Implementation Plan and Schedule | 10
Subfactor 3.2 | Availability of Housing Stock | 10
Subfactor 3.3 | Budget | 10
Subfactor 3.4 | Coordination with Department of Veterans Affairs | 10
Subfactor 3.5 | Coordination with Partners | 5
Subfactor 3.6 | Outputs and Outcomes | 5
Total Points (Minimum of 75 points needed to meet threshold requirement) | 100

Rating Factor 1: Capacity of the Applicant

Maximum Points: 30

Subfactor 1.1. Managerial and Technical Staff

Maximum Points: 6

Applicants must demonstrate that they possess or can obtain the managerial and technical staff necessary to implement a Tribal HUD-VASH grant.

The applicant must address the following components in its workplan narrative. If the applicant does not currently have the managerial or technical staff, then the applicant must address how it will obtain staff to manage and/or other assistance (e.g., contractors, consultants, subaward, etc.) to help manage and implement the program, and how it will ensure that all are qualified in accordance with the following components:

1. A description of the knowledge and experience of key staff, including the program manager, that will implement the Tribal HUD-VASH program;

2. Discussion of relevant training or experience working with homeless and/or at risk of homelessness populations or Veterans;

3. Understanding of supportive housing and other evidence-based practices used by Tribal HUD-VASH;

4. Recent housing experience of key staff (within 5 years);

5. Any successful accomplishments related to working with the homeless, at risk of homelessness population, or Veterans. Successful accomplishments include producing measurable impact on the quality and/or quantity of housing affecting the tribal homeless community. Some indicators of success may include a description of key outcomes (e.g., reduction of homeless population rate, innovative homeless self-sufficiency programs, etc.), overall impact of the accomplishment, award recognition, etc.; and

6. The extent to which the program manager's time commitments and other key program personnel are appropriate and adequate to meet the program's objectives.

Applicants proposing the construction, acquisition, or rehabilitation of units to house Veterans assisted under the Tribal HUD-VASH program must also include the following components in its workplan narrative:

7. Qualifications and relevant experience of staff, contractors, consultants, and sub-grantees for the project; and

8. Applicant's own experience in implementing new housing construction, acquisition, or rehabilitation projects.

HUD will award points as follows:

(6 points)

The applicant thoroughly addresses all components outlined in this Subfactor. The applicant already has its own managerial and technical staff to implement a Tribal HUD-VASH grant.

(5 points)

The applicant does not currently have its own managerial or technical staff to implement a Tribal HUD-VASH grant. However, the applicant thoroughly addresses how it will obtain qualified staff and/or other assistance (e.g., contractors, consultants, subrecipient, etc.) needed to manage and implement the program based on the components outlined in this Subfactor.

(4 points)

The applicant adequately addressed this Subfactor but was either missing one of the components outlined in this Subfactor or the applicant addressed all of the required components but lacked detail to warrant full points under this Subfactor.

(3 points)

The applicant adequately addressed this Subfactor but was missing 2-3 of the components outlined in this Subfactor.

(0 points)

The application did not include any of the information described above to receive points under this Subfactor or the applicant addressed this Subfactor but was missing 4 or more components.

Subfactor 1.2. Technical Capacity

Maximum Points: 6

The applicant must address the measures that have been taken, or that it will take to ensure that it will implement policies and procedures for managing the Tribal HUD-VASH program.

The applicant should explain how its policies and procedures address the following components:

1. How it will comply with program requirements and procedures to ensure that its key personnel have the information and tools they need to manage the program;

2. Steps for managing waiting lists;

3. Coordination efforts with VA and HUD staff;

4. Implementing program obligations (e.g., participating in regular meetings, coordination and outreach efforts, etc.), and

5. Implementation of how supportive housing and other evidence-based practices will be integrated with Tribal HUD-VASH veterans.

Applicants proposing to construct, rehabilitate, or acquire units for eligible Veterans must also address the following component:

6. The steps it will take to oversee the proper implementation of the parties (e.g., contractor, consultants, subrecipient, etc.) responsible for completing the project.

Applicants with existing Tribal HUD-VASH policies may submit their existing policies as supporting documentation under this Subfactor.

Resources about program requirements and procedures can be found online: https://www.hud.gov/program_offices/public_indian_housing/ih/tribalhudvash.

(6 points)

The applicant thoroughly addresses the measures that have been taken or that it will take to ensure that it will implement policies and procedures for managing the Tribal HUD-VASH program based on the Subfactor criteria described.

(4 points)

The applicant adequately addressed this Subfactor but was either missing one of the components outlined in this Subfactor or the applicant addressed all of the required components but lacked detail to warrant full points under this Subfactor.

(3 points)

The applicant adequately addressed this Subfactor but was missing 2-3 of the components outlined in this Subfactor.

(0 points)

The application did not include any of the information described above to receive points under this Subfactor or the applicant addressed this Subfactor but was missing 4 or more components.

Subfactor 1.3. Findings

Maximum Points: 6

For this Subfactor, HUD will evaluate the applicant's performance during the rating period of October 1, 2017, up to and including the application submission deadline. To receive maximum points, the applicant must not have had any Single Audit findings, HUD-ONAP monitoring findings (IHBG, Indian Community Development Block Grant (ICDBG), and other programs monitored by ONAP) or findings pertaining to ONAP programs from either HUD's Office of the Inspector General (OIG) and/or the US Government Accountability Office (GAO) at any time during the rating period. Applicants that have Single Audit findings pertaining to financial management, accounting, and internal controls for HUD-ONAP programs during the rating period will receive zero points in this Subfactor. Applicants should not submit workplan narrative information or supporting attachments for this Subfactor, as HUD will utilize its own records to verify this information.

(6 points)

The applicant did not have any Single Audit, HUD-ONAP monitoring, HUD-OIG, or GAO findings at any time during the rating period.

(4 points)

The applicant had outstanding HUD-ONAP monitoring, HUD-OIG, or GAO findings during the rating period but resolved those findings by the established target date(s) or revised target date.

(2 points)

The applicant had HUD-ONAP monitoring, HUD-OIG, or GAO findings during the rating period but were not yet due for resolution based on the established target date(s) or revised target date.

(0 points)

One of the Following Applies:

• During the rating period, the applicant did not resolve all open HUD-ONAP monitoring, HUD-OIG, or GAO findings by the established target date(s) or revised target date; or

• The applicant had Single Audit findings pertaining to financial management, accounting, and internal controls for HUD-ONAP programs during the rating period.

Subfactor 1.4. Timely Reporting

Maximum Points: 6

Applicants that currently receive HUD-ONAP grants under the IHBG formula program, FY18/FY19 IHBG Competitive Program, Indian Community Development Block Grant (ICDBG) program, COVID-19 Recovery Programs (IHBG-CARES and ICDBG-CARES), or Tribal HUD-VASH program must ensure the timely submission of the following required reports: Annual Performance Report (APR), Annual Status and Evaluation Report (ASER), and the Federal Financial Report (SF-425). Applicants who have never received a HUD-ONAP grant will be awarded 2 points under this Subfactor.

HUD will award maximum points to those who have submitted all reports by the submission deadlines (which includes any granted extensions) for all HUD-ONAP grants during the one-year period immediately preceding the date that this NOFA is published. Applicants should not submit workplan narrative information or supporting attachments for this Subfactor, as HUD will utilize its own records to verify this information.

(6 points)

The applicant submitted all required reports by the submission deadlines for all HUD-ONAP grants during the one-year period immediately preceding the date that this NOFA is published.

(3 points)

The applicant submitted some, but not all, required reports by the submission deadlines for HUD-ONAP grants during the one-year period immediately preceding the date that this NOFA is published.

(2 points)

The applicant has never received a HUD-ONAP grant.

(0 points)

The applicant did not submit any required reports by the submission deadlines for HUD-ONAP grants during the one-year period immediately preceding the date that this NOFA is published.

Subfactor 1.5. Expenditures

Maximum Points: 6

HUD will evaluate administrative capacity by considering how applicants have utilized current Tribal HUD-VASH or IHBG formula funds using one of the categories below. In awarding points, HUD will consider the amount of undisbursed funds remaining in the Line of Credit Control System (LOCCS) for each applicant.

HUD will evaluate existing Tribal HUD-VASH grantees using Category #1 below. For applicants that do not currently administer the Tribal HUD-VASH program, HUD will evaluate how these IHBG recipients (or if they are not an IHBG recipient, their IHBG formula recipient) have spent or invested IHBG formula funds using either Category #2 or Category #3 below. In awarding points, HUD will take into account the amount of unexpended IHBG formula funds remaining in LOCCS and its plans for spending undisbursed IHBG funds, or if approved for investments, the status of the invested funds and the applicant's plans to use these funds for affordable housing activities. In assessing an applicant's undisbursed funds, HUD will neither consider the IHBG formula funds awarded in FY 2020 nor the IHBG funds awarded under the Coronavirus, Relief, and Economic Security (CARES) Act since Indian tribes and TDHEs would have recently been awarded this funding. Eligible applicants that have ever been allocated IHBG formula funds but neither accept those funds nor have a current IHBG formula recipient will automatically receive 3 points under Category #2 below.

Category #1: Existing Tribal HUD-VASH Grantees

HUD will review how an existing Tribal HUD-VASH grantee has utilized its FY15 and FY17 funds. HUD will compare the total undisbursed balance awarded from these fiscal years with the cumulative award amount as of the NOFA publication date. HUD will not include the Tribal HUD-VASH renewal grant funding awarded under Notice PIH-2019-18 and PIH-2020-10 in evaluating this Subfactor. Applicants should not submit workplan narrative information or supporting attachments for this Subfactor, as HUD will utilize its own records to verify this information.

(6 points)

The applicant's combined undisbursed balance in LOCCS is 0-15% of the Tribal HUD-VASH cumulative award amount it received in FY15 and FY17.

(5 points)

The applicant's combined undisbursed balance in LOCCS is between 16% and 30% of the Tribal HUD-VASH cumulative award amount it received in FY15 and FY17.

(4 points)

The applicant's combined undisbursed balance in LOCCS is between 31% and 45% of the Tribal HUD-VASH cumulative award amount it received in FY15 and FY17.

(2 points)

The applicant's combined undisbursed balance in LOCCS is between 46% and 60% of the Tribal HUD-VASH cumulative award amount it received in FY15 and FY17.

(1 point)

The applicant's combined undisbursed balance in LOCCS is between 61% and 75% of the Tribal HUD-VASH cumulative award amount it received in FY15 and FY17.

(0 points)

The applicant's combined undisbursed balance in LOCCS is more than 75% of the Tribal HUD-VASH cumulative award amount it received in FY15 and FY17.

Category #2: New Applicants That Are Not Approved for Investing Formula IHBG Funds or Approved for But Are Not Investing IHBG Formula Funds

For this Subfactor, applicants not approved to invest formula IHBG funds will be evaluated on the expenditure of IHBG formula funding received in the last three federal fiscal years (2018-2020) in comparison with the amount of undisbursed IHBG funds remaining in LOCCS on the date this NOFA is published.

A new applicant with an undisbursed balance that is more than 25% of IHBG formula cumulative amounts that it received for the last three federal fiscal years may qualify for full points under this Subfactor only if it includes a justification that is satisfactory to HUD demonstrating well-developed plans to accumulate IHBG funds to carry out a specific activity in the future. The justification must include supporting information on when and how the recipient intends to spend its undisbursed IHBG funds in the future to qualify for the full 6 points. This may include specific references to past Indian Housing Plans, Annual Performance Reports, or other related documents.

An applicant that has received approval for but not investing its IHBG formula funds must clearly state this in the workplan narrative in order to qualify for points under this Subfactor Option. Applicants should not submit LOCCS or formula funding data for this Subfactor, as HUD will utilize its records to verify.

Eligible applicants that have ever been allocated IHBG formula funds but neither accept those funds nor have a current IHBG formula recipient will automatically receive 3 points for this Subfactor.

(6 points)

One of the Following Applies:

• The applicant's undisbursed amount in LOCCS is 0-25% of IHBG formula cumulative amount for the 2018-2020 Federal fiscal years; or

• The applicant's undisbursed amount is more than 25% of IHBG formula cumulative amounts and the applicant provided sufficient justification demonstrating well-developed plans to accumulate IHBG funds to carry out specific IHBG eligible activities in the future. The justification included supporting information on when and how the recipient intends to spend its undisbursed IHBG funds in the future.

(3 points)

One of the Following Applies:

• The applicant's undisbursed amount in LOCCS is between 26% and 50% of IHBG formula cumulative amount for the 2018-2020 Federal fiscal years. The applicant did not provide a justification and supporting information satisfactory to HUD demonstrating well-developed plans to spend its undisbursed IHBG amounts; or

• The applicant does not currently administer the IHBG formula program and accordingly does not have balances of IHBG funds.

(1 point)

The applicant's undisbursed amount in LOCCS is between 51% and 75% of IHBG formula cumulative amount for the 2018-2020 Federal fiscal years. The applicant did not provide a justification and supporting information satisfactory to HUD demonstrating well-developed plans to spend its undisbursed IHBG amounts.

(0 points)

The applicant's undisbursed amount in LOCCS is more than 75% of IHBG formula cumulative amount for the 2018-2020 Federal fiscal years. The applicant did not provide a justification and supporting information demonstrating a well-developed plan to spend its undisbursed IHBG amounts.

Category #3: New Applicants Approved for and Investing IHBG Formula Funds

A new applicant approved for investing formula IHBG funds in accordance with section 204(b) of NAHASDA and 24 CFR 1000.58 must submit information about its investment balances and its plans to spend the invested IHBG funds on affordable housing activities.

(6 points)

The applicant submitted all of the following information addressing its invested IHBG funds: the amount of IHBG grant funds that it currently has invested, the investment securities and other obligations in which the funds are invested, and a well-developed plan for spending the invested IHBG funds on affordable housing activities.

(3 points)

The applicant did not submit one of the following information addressing its invested IHBG grant funds: the amount of IHBG grant funds that it currently has invested, the investment securities and other obligations in which the funds are invested, and a well-developed plan for spending the invested IHBG funds on affordable housing activities.

(1 point)

The applicant did not submit two of the following information addressing its invested IHBG grant funds: the amount of IHBG grant funds that it currently has invested, the investment securities and other obligations in which the funds are invested, and a well-developed plan for spending the invested IHBG funds on affordable housing activities.

(0 points)

The application failed to include any of the following: information detailing the amount of IHBG grant funds that it currently has invested, the investment securities and other obligations in which the funds are invested, and a well-developed plan for spending the invested IHBG funds on affordable housing activities.

Rating Factor 2: Need

Maximum Points: 20

Subfactor 2.1. Identified Needs

Maximum Points: 10

As required by the 2017 Appropriations Act, HUD will consider need when reviewing applications received under this NOFA. For this rating factor, the applicant must address the following components in its workplan narrative:

1. Reasons why the applicant is interested in a Tribal HUD-VASH grant;

2. Discussion of the magnitude (estimated number) and severity of the applicant's homeless Veterans or Veterans at risk of homelessness population;

3. The extent to which specific gaps or weaknesses in services, housing, or opportunities have been identified and how it will be addressed;

4. Steps taken to identify or estimate the applicant's total homeless Veterans or Veterans at risk of homelessness population, including those that may be eligible for VA benefits; and

5. Identify the estimated number of the applicant's eligible homeless Veterans or Veterans at risk of homelessness population that could be served under the Tribal HUD-VASH program. Resources to determine Veteran eligibility for VA supportive services are available online: https://www.va.gov/health-care/eligibility/.

6. Existing grantees (if applicable): In addition to components #1-5 above, existing grantees must include an explanation of why additional Tribal HUD-VASH funds are needed in order to continue addressing the needs of its eligible homeless or at risk of homelessness Veteran population.

HUD will award points as follows:

(10 points)

The applicant fully addressed all of the components outlined in this Subfactor.

(8 points)

The applicant was either missing one of the components outlined in this Subfactor or the need justification addressed all of the required components, but lacked detail to warrant full points under this Subfactor.

(5 points)

The applicant was missing more than one of the components outlined in this Subfactor.

(0 points)

The applicant did not address any of the components described above to receive points under this Subfactor.

Subfactor 2.2. Supporting Information

Maximum Points: 5

Applicants must demonstrate need for the Tribal HUD-VASH program by providing supporting information verifying the presence of Veterans that are homeless or at risk of homelessness in their Indian area (the area where the Tribe or TDHE is authorized to carry out affordable housing activities). The supporting information must correlate with the identified needs discussed in Subfactor 2.1.

Examples of acceptable documentation may include, but are not limited to:

1. Point-in-Time counts;

2. Waiting lists with homeless Veterans or Veterans at risk of homelessness;

3. Number of overcrowded households with residents that are at risk of homelessness

4. A list of eligible Veterans from the Tribal Veteran's Representative;

5. Data from the local VA;

6. U.S. Census Bureau's American Community Survey (ACS) data; and

7. Any supporting documentation demonstrating to HUD's satisfaction the presence of homeless Veterans or Veterans at risk of homelessness.

HUD will award points as follows:

(5 points)

The applicant provided supporting information that correlates with the identified needs discussed in Subfactor 2.1.

(3 points)

The applicant provided supporting information. However, not all of the information submitted correlates with the identified needs discussed in Subfactor 2.1.

(0 points)

The applicant did not provide supporting information, or the information submitted does not correlate with any of the identified needs discussed in Subfactor 2.1.

Subfactor 2.3. Severity of the Problem

Maximum Points: 5

For this Subfactor, HUD will assess need based on severity of the applicant's identified homeless Veterans or Veterans at risk of homelessness population. Points will be awarded based on how the estimated number of identified homeless Veterans or Veterans at risk of homelessness compares to the number of rental housing units requested by the applicant. HUD will use information submitted for Subfactors 2.1, 2.2, and 3.1 for this Subfactor review.

(5 points)

The estimated number of identified homeless Veterans or Veterans at risk of homelessness is at least three times the number of rental housing units requested by the applicant.

(3 points)

The estimated number of identified homeless Veterans or Veterans at risk of homelessness is at least twice but less than three times the number of rental housing units requested by the applicant.

(1 point)

The estimated number of identified homeless Veterans or Veterans at risk of homelessness is at least equal to but less than twice the number of rental housing units requested by the applicant.

(0 points)

The estimated number of homeless Veterans or Veterans at risk of homelessness is less than the number of rental housing units requested by the applicant.

Rating Factor 3: Capacity to Administer the Program

Maximum Points: 50

Subfactor 3.1. Implementation Plan and Implementation Schedule

Maximum Points: 10

HUD will assess the applicant's administrative capacity to implement its proposed Tribal HUD-VASH program by reviewing its workplan narrative. In addition, the applicant must include a schedule of specific tasks in its Implementation Schedule.

The applicant must describe the program in detail and include the following components in its workplan narrative and Implementation Schedule:

1. Type of Tribal HUD-VASH Assistance: Tenant-Based vs. Project-Based: The applicant must describe its rationale for requesting Tenant-Based Rental Assistance and/or Project-Based Rental Assistance. The rationale must correlate with the need discussed in Rating Factor 2, Need;

2. Units of Assistance Requested: The workplan narrative must include a justification for the total number of rental housing units that the Tribe or TDHE plans to provide. The justification must correlate with the information submitted under Rating Factor 2, Need, and criteria established in this NOFA, and must address housing availability. The number of units requested in the justification must match the information provided on the Units of Assistance Table(s) submitted with the application;

3. Location of the units where eligible Veterans may be housed (e.g., include a map, address and/or aerial photo); and

4. If applicable, description of how the applicant plans to operate and maintain any units owned or operated by the applicant.

An applicant proposing Project-Based Rental Assistance must also address the following in its workplan narrative:

5. Housing stock: Description of whether the applicant plans to leverage other resources to construct, acquire, or rehabilitate housing stock for the use of eligible Veterans. If the applicant is not planning to increase its housing stock and is instead using its existing stock, then the applicant must describe what type of units it plans to use (e.g. IHBG, FCAS, Title VI, Low-Income Housing Tax Credit, Section 184, tribal, etc.) and identify the age of the stock as of the application deadline established in this NOFA. Applicants that propose to use existing housing stock to house Veterans will not be awarded the maximum points under Subfactor 3.2 below, unless it is newly constructed or acquired for Veterans 12 months or less prior to the application deadline established in this NOFA

6. The length of time the Tribal HUD-VASH assistance would not be used while waiting for the units to be completed (e.g. constructed, acquired, or rehabilitated) and what activities the applicant will continue to implement during this time. Note that projects with new construction timeframes longer than two years will not be approved;

7. The number of units and the type of structure to which the assistance units will be attached; and

8. The project ownership and evidence of site control. As stated in the Consolidated Notice, Project-Based Rental Assistance may be provided to privately owned housing with a contract with the owner of the housing, or a unit that is owned or operated by the tribe/TDHE.

HUD will award points as follows:

(10 points)

The workplan narrative and Implementation Schedule include all of the components outlined in this Subfactor, including components #5-8 if the applicant is proposing Project-Based Rental Assistance.

(7 points)

One of the Following Applies

• The workplan narrative and Implementation Schedule are either missing one of the components outlined in this Subfactor, including components #5-8 if the applicant is proposing Project-Based Rental Assistance; or

• The plan addressed all of the required components but lacked detail to warrant full points under this Subfactor.

(5 points)

The applicant is requesting the majority of funds towards Project-Based Rental Assistance and workplan narrative and Implementation Schedule are missing more than one but less than five of the components outlined in this Subfactor.

(0 points)

The applicant is either requesting the majority of funds towards Project-Based Rental Assistance and the workplan narrative and Implementation Schedule are missing five or more of the components outlined in this Subfactor or the applicant is requesting the majority of funds towards Tenant-Based Rental Assistance and the workplan narrative and Implementation Schedule are missing two or more of the components outlined in this Subfactor.

Subfactor 3.2. Availability of Housing Stock

Maximum Points: 10

HUD recognizes that this additional Tribal HUD-VASH expansion funding provides an opportunity to address severe overcrowding and the lack of affordable housing in Indian Country. As such, HUD will award full points under this Subfactor to applicants that demonstrate the administrative capacity to increase their housing stock for eligible Veterans. Additionally, HUD will award points based on how the applicant addresses the availability of housing stock it would use to house eligible Veterans under the Tribal HUD-VASH program.

For this Subfactor, applicants will be rated under either Category #1 or Category #2 below, depending on the nature of the proposed project. Applicants that propose both Project-Based and Tenant-Based projects will be rated according to the project that constitutes the majority of the federal request amount listed on the SF-424 and detailed budget. Applicants that propose an equal amount of federal funds towards both Project-Based and Tenant-Based projects will be rated according to Category #1- Project-Based Rental Assistance, as this in keeping with HUD's priority to increase the number of new housing units available for eligible Veterans under the program.

Category #1: Project-Based Rental Assistance

For applicants that request the majority of federal funds for Project-Based Rental Assistance, maximum points will be awarded to those that have leveraged other funding sources to increase its housing stock for the use of eligible Veterans.

To qualify for full points, applicants proposing to increase its housing stock for eligible Veterans must identify the amount of leveraged funding sources that it has used or plans to use and provide firm commitment documentation supporting this amount.

A firm commitment refers to a letter of commitment, memorandum of understanding, or agreement to participate from an applicant's partner specifying that it agrees to perform and/or support an activity specified in the application. The firm commitment must demonstrate that the partner has the financial capacity to deliver the resources or skills necessary to implement the proposed activity, either in cash or through in-kind contributions, if HUD awards Tribal HUD-VASH funds. Federal sources are only allowed to be used as leveraging if permitted by a program's authorizing statute. Contributions that could be considered as leveraged resources for point award include, but are not limited to:

• Tribal government funds;

• Donations from individuals or organizations, private foundations, businesses;

• State or federal loans or guarantees;

• Other grant funds;

• Donated goods and services needed for the project;

• Land needed for the project; and

• Direct administrative costs.

As indicated in Subfactor 3.1, applicants that propose to use existing housing stock to house Veterans will not be awarded the maximum points for this Subfactor, unless it is newly constructed or acquired for Veterans 12 months or less prior to the application deadline established in this NOFA.

The following table summarizes acceptable firm commitment documentation to provide as evidence of leveraged funds:

Leveraged resource | Firm commitment documentation needed
Tribal Resources | • Tribal resolution committing funds, housing stock, or equivalent; the resolution (or equivalent) must identify the exact dollar amount (or value of resources to be committed).
Federal Resources | • IHBG formula funds (whether administered by the tribe or a TDHE) in keeping with ONAP Program Guidance No. 2018-01(IHBG in the Tribal HUD-VASH Program:
| ○ Leveraging with current program year funds: The most recently approved Indian Housing Plan (IHP) must identify the dollar amount and commit the IHBG resources to the project. If not currently approved in the most recent IHP, the application must state that an amendment to the IHP will be processed if the applicant is awarded Tribal HUD-VASH funds.
| ○ Future IHBG funding: If future IHBG funds will be used, the application must identify the program year and the dollar amount of IHBG funds that will be used.
| • Other Federal Program Funds: Might include funds from the U.S. Department of Agriculture, Indian Health Service, Bureau of Indian Affairs, or any other federal agency. If allowable by the Federal program's statute, the applicant should submit statement (e.g., letter, email, etc.) from the Federal agency approving the amount of funds to be committed for leveraging.
Public Agency, Foundation, or Other Private Party | • Letters of commitment which must include: ○ The donor organization's name;
| ○ The specific funds proposed;
| ○ The dollar amount of the financial or in-kind resource;
| ○ Method for valuation;
| ○ The purpose of that resource within the proposed project; and
| ○ Signed commitment from an official of the organization legally authorized to make the commitment.
| • Memorandum of understanding, and/or agreement to participate, including any conditions to which the contribution may be subject.
Goods and Services | • Must demonstrate that the donated items are necessary to the actual development of the project and include comparable costs that support the donation.
Land | • Land valuation must be established using one of the following methods and the documentation must be contained in the application. The application of land valuation documentation must state the method used to determine land value and identify the land value. Land that has previously been used as leverage towards other ONAP competitions may not be proposed as leveraging for this NOFA.
| • The methods for land valuation include:
| ○ A site-specific appraisal no more than two years old;
| ○ An appraisal of a nearby comparable site also no more than two years old;
| ○ A reasonable extrapolation of land value based on current area realtor value guides; or
| ○ A reasonable extrapolation of land value based on recent sales of similar properties in the same area.

Grantees will be required to show evidence that leveraging resources were actually received and used for their intended purposes through quarterly reports (SF-425) as the project proceeds.

HUD recognizes that in some cases, the applicant cannot receive a firm commitment of non-tribal funds by the application deadline. In such cases, the applicant must include a statement from the contributing entity that describes why the firm commitment cannot be made at the current time. The statement must say that the tribe/organization and proposed project meets the eligibility criteria for receiving the leveraged funds. It must also include a date by which the funding decisions will be made. This date cannot be over six months from the anticipated date of grant approval by HUD. If the applicant does not provide HUD with evidence of the firm commitment from the original leverage source or an alternative source within six months of the date of grant approval, or if anticipated leverage is not provided, HUD will re-rate and re-rank the application with the updated leverage information. If the application is no longer fundable after re-rating and re-ranking the application, HUD will rescind the grant and recapture grant funds.

HUD will award points as follows:

(10 points)

The applicant provided firm commitment documentation for all sources of leveraging resources that it has used or plans to use for the construction or acquisition of housing specifically for Veterans and one of the following applies:

• The applicant is proposing to increase its housing stock for the use of eligible Veterans by leveraging other funding sources for the construction or acquisition of new units; or

• The applicant proposes to use of existing stock that is newly constructed or acquired for Veterans 12 months or less prior to the application deadline established in this NOFA, as identified in Subfactor 3.1.

(8 points)

The applicant is proposing to leverage other funding sources for the rehabilitation of existing stock for the use of Veterans. The applicant provided firm commitment documentation for all sources of leveraging resources that it has used or plans to use for the rehabilitation project.

(5 points)

The applicant is not proposing to increase its housing stock specifically for the use of eligible Veterans. Rather, the applicant is proposing to use existing housing stock, without associated rehabilitation costs, and the stock is more than 12 months old from the application deadline established in this NOFA for its Tribal HUD-VASH program.

(0 points)

The applicant proposed to increase its housing stock for the use of eligible Veterans by leveraging other sources of funding but did not provide firm commitment documentation for all sources of leveraging resources.

Category #2: Tenant-Based Rental Assistance

Applicants requesting funding to provide Tenant-Based Rental Assistance must submit supporting documentation demonstrating the availability of rental units where eligible Veterans may be housed, if awarded a Tribal HUD-VASH grant.

Documentation for this Subfactor must include agreements or letters of partnerships with local landlords showing commitment to house eligible Veterans as identified in Subfactor 3.1-Implementation Plan and Implementation Schedule. Other forms of supporting documentation to receive points under this Subfactor include a rental market survey identifying the rental market available for Veterans, or other documentation satisfactory to HUD demonstrating the availability of housing for Veterans assisted under this program.

Applicants that propose to make their own housing stock available for Tenant-Based Rental Assistance must provide supporting documentation in the form of a tribal resolution or equivalent committing units it would offer eligible Veterans under the program. The resolution (or equivalent) must identify the type of housing stock (e.g., FCAS, NAHASDA, etc.), the number of units, and the age of the units.

Applicants that propose to use units (50% or higher) that have been constructed, acquired, or rehabbed 12 months or less prior to the application deadline of this NOFA will receive more points under this Subfactor versus applicants that propose to use older housing stock.

(10 points)

The applicant provided agreements or letters of partnerships with local landlords for all rental units where eligible Veterans may be housed, as identified in Subfactor 3.1- Implementation Plan and Implementation Schedule. The applicant is also proposing to offer its own housing stock as an option for eligible Veterans, provided a tribal resolution or equivalent identifying the type of housing stock, number of units, and the majority age of the units (50% or higher) is 12 months or less from the application deadline of this NOFA.

(9 points)

The applicant provided agreements or letters of partnerships with local landlords for all rental units where eligible Veterans may be housed, as identified in Subfactor 3.1-Implementation Plan and Implementation Schedule. The applicant is also proposing to offer its own housing stock as an option for eligible Veterans and provided a tribal resolution or equivalent identifying the type of housing stock and number of units. However, the majority age of the units (49% or less) is older than 12 months from the application deadline of this NOFA.

(8 points)

The applicant provided agreements or letters of partnerships with local landlords for all rental units where eligible Veterans may be housed, as identified in Subfactor 3.1-Implementation Plan and Implementation Schedule. The applicant is not proposing to offer its own housing stock as an option for eligible Veterans.

(6 points)

The applicant provided agreements or letters of partnerships with local landlords for some, but not all rental units. The applicant provided other supporting documentation for the remaining rental units where eligible Veterans may be housed, as identified in Subfactor 3.1-Implementation Plan and Implementation Schedule. The applicant is not proposing to offer its own housing stock as an option for eligible Veterans.

(4 points)

The applicant did not provide agreements or letters of partnerships with local landlords. Rather, the applicant provided other supporting documentation for all rental units where eligible Veterans may be housed, as identified in Subfactor 3.1-Implementation Plan and Implementation Schedule. The applicant is not proposing to offer its own housing stock as an option for eligible Veterans.

(2 points)

The applicant did not provide agreements or letters of partnerships with local landlords. Rather, the applicant provided other supporting documentation for some, but not all rental units where eligible Veterans may be housed, as identified in Subfactor 3.1-Implementation Plan and Implementation Schedule. The applicant is not proposing to offer its own housing stock as an option for eligible Veterans.

(0 points)

The applicant did not provide any supporting documentation for the rental units where eligible Veterans may be housed.

Subfactor 3.3. Budget

Maximum Points: 10

HUD will review the detailed budget (Unit of Assistance Table, estimated administrative fee usage, and if applicable, project costs for the development of new units) according to the following criteria:

1. Budget is thoroughly prepared, with all costs requested on the SF-424 accounted for and calculations shown by the applicant;

2. Budget figures are consistent throughout the application;

3. Costs are allowable, allocable, reasonable, and necessary for implementing the proposed Tribal HUD-VASH program; and

4. All budget calculations are mathematically correct.

Points will be awarded as follows:

(10 points)

The detailed budget fully satisfied all of the criteria outlined in this Subfactor.

(8 points)

The detailed budget adequately satisfied all but one of the criteria outlined in this Subfactor.

(5 points)

The detailed budget did not satisfy two criteria outlined in this Subfactor

(0 points)

The detailed budget was missing information and/or did not satisfy three or more criteria outlined in this Subfactor.

Subfactor 3.4. Coordination With the Department of Veterans Affairs

Maximum Points: 10

This Subfactor awards points based on how an applicant will take affirmative steps to coordinate with the VA Medical Center that serves its tribal area and its overall understanding of the VA's role in implementing the program.

The applicant must address the following components in its workplan narrative:

1. Identify which VA Medical Center or VA Healthcare System the applicant will partner with for the program;

2. Description of the VA's agreement to participate in Tribal HUD-VASH, commitment and capacity to provide timely case management services to support a Tribal HUD-VASH award, and how the VA intends to obtain the case manager (VA hire or contract);

3. Overview of how the applicant will incorporate the VA partnership into the applicant's Tribal-HUD-VASH program operations;

4. Description of how supportive housing evidence-based practices (e.g., Critical Time Intervention, Harm Reduction, etc.) will be integrated by the applicant for this program. (More information is available in the “Tribal HUD-VASH Guidebook (April 2016)” available at https://www.hud.gov/program_offices/public_indian_housing/ih/tribalhudvash);

5. Applicant's understanding of case manager criteria, recruitment and selection, including any anticipated involvement of tribal entities and potential barriers to obtaining a case manager;

6. Joint VA and tribal efforts to identify and conduct outreach to eligible homeless and/or at risk of homelessness veterans; and

7. Applicant's plan for on-going communication with the VA.

(10 points)

The applicant thoroughly described its coordination efforts with the VA in its workplan narrative and demonstrates a full understanding of the VA's role in implementing the program. The applicant discussed all of the Subfactor components in detail.

(8 points)

The applicant adequately addressed this Subfactor but was either missing one of the components outlined in this Subfactor or the applicant addressed all of the required components but lacked detail to warrant full points under this Subfactor.

(6 points)

The applicant adequately addressed this Subfactor but was missing 2-3 of the components outlined in this Subfactor.

(4 points)

The applicant addressed this Subfactor but was missing 4 or more components outlined in this Subfactor.

(0 points)

The application did not include any of the information described above to receive points under this Subfactor.

Subfactor 3.5. Coordination With Partners

Maximum Points: 5

The applicant is encouraged to involve other partners in developing and implementing the Tribal HUD-VASH program. For this Subfactor, the applicant must address the following components:

1. How the applicant has designed the project and plans to implement it in coordination with community members, tribal departments, the Indian Health Service (HIS) or tribal health system, Continuums of Care, Veterans groups, nonprofits, homelessness providers, or other agencies/organizations;

2. Description of actions taken or to be taken to work with partners to support its marketing and outreach efforts to homeless and/or at risk of homelessness Veterans; and

3. Planned efforts to promote employment opportunities for homeless and/or at risk of homelessness Veterans.

(5 points)

The applicant thoroughly described its coordination efforts with other partners in its workplan narrative and discussed all of this Subfactor's components in detail.

(3 points)

The applicant adequately addressed this Subfactor but was either missing one of the components outlined in this Subfactor or the applicant addressed all of the required components but lacked detail to warrant full points under this Subfactor.

(0 points)

The application did not include any of the information described above to receive points under this Subfactor.

Subfactor 3.6. Outputs and Outcomes

Maximum Points: 5

The applicant must include outcomes and outputs it strives to achieve with the project and describe them in detail. Outputs are measured in the volume of work accomplished and must correlate with the nature of the Tribal HUD-VASH program activities proposed and discussed in Rating Factors 2 and 3 of the workplan narrative. They should be clear enough to allow HUD to monitor and assess the proposed project or program's progress if funded. An outcome is the impact achieved from the outputs of the proposed project or program. They should be quantifiable measures or indicators that identify the change in the community, people's lives, economic status, etc. Discussion and coordination with VA facility staff can help identify clear outputs and outcomes as part of the investigation/planning process.

Examples of outputs could include but are not limited to:

• Number of eligible Veterans assisted

• Number of rental units identified/number of partnerships with local landlords (Tenant-Based Housing Assistance)

• Number of Project-Based units constructed, acquired, or rehabilitated for the eligible Veterans

• Number of outreach meetings and efforts undertaken to coordinate assistance with partners

Examples of outcomes could include but are not limited to:

• Number of eligible Veterans exiting the Tribal HUD-VASH program to permanent housing

• Number of eligible Veterans graduating (no longer needing case management services from the VA)

• Reduction of eligible Veterans on a tribe/TDHE's waiting list

• Increase in available housing stock for eligible Veterans

• Increased in fiscal resources for eligible Veterans during participation in the Tribal HUD-VASH program by obtaining employment or appropriate disability and/or other benefits (e.g., Supplemental Nutrition Assistance Program, etc.) for which the Veteran is eligible, and learning and utilizing effective money management practices

• Obtain maximal “self-sufficiency” as appropriate to their functional abilities, as evidenced by independently meeting tenancy requirements (such as paying rent portion on time, maintaining the unit, following the rules of the landlord, allowing others peaceful enjoyment of their unit, etc.), practicing wellness strategies and attending to their healthcare needs, attending to personal needs (e.g., independently taking care of activities of daily living), and engaging in social and community activities to increase purposeful, meaningful activities and establish/maintain healthy and effective social supports

(5 points)

The applicant clearly described measurable outputs and outcomes for the Tribal HUD-VASH program activities proposed in the workplan.

(3 points)

The applicant included measurable outputs and outcomes for the Tribal HUD-VASH program activities proposed in the workplan but did not clearly describe them in detail.

(1 points)

The applicant included either measurable outputs or outcomes for Tribal HUD-VASH program activities proposed in the workplan, but not both.

(0 points)

The application did not contain the information described above to receive points under this Subfactor.

2. Other Factors

Preference Points

HUD encourages activities in support of the Secretary's FY20 Initiatives. HUD may award up to two (2) points for any of the 3 preferences (OZ, PZ or HBCU).

Opportunity Zones

This program does not offer Opportunity Zone preference points.

HBCU

This program does not offer HBCU preference points.

Promise Zones

This program does not offer Promise Zone preference points.

B. Review and Selection Process

1. Past Performance

In evaluating applications for funding, HUD will consider an applicant's past performance in managing funds. Items HUD will consider include, but are not limited to:

The ability to account for funds in compliance with applicable reporting and recordkeeping requirements;

Timely use of funds received from HUD;

Timely submission and quality of reports submitted to HUD;

Meeting program requirements;

Meeting performance targets as established in the grant agreement;

The applicant's organizational capacity, including staffing structures and capabilities;

Timely completion of activities and receipt and expenditure of promised matching or leveraged funds;

HUD may reduce scores as specified under V. A. Review Criteria. Whenever possible, HUD will obtain past performance information. If this review results in an adverse finding related to integrity or performance, HUD reserves the right to take any of the remedies provided in Section III. E Statutory and Regulatory Requirements Affecting Eligibility, “Pre-selection Review of Performance” document link above.

2. Assessing Applicant Risk

In evaluating risks posed by applicants, HUD may use a risk-based approach and may consider any items such as the following:

• Financial stability;

• Quality of management systems and ability to meet the management standards prescribed in this part;

• History of performance. The applicant's record in managing Federal awards, if it is a prior recipient of Federal awards, including timeliness of compliance with applicable reporting requirements, conformance to the terms and conditions of previous Federal awards, and if applicable, the extent to which any previously awarded amounts will be expended prior to future awards;

• Reports and findings from audits performed under Subpart F—Audit Requirements of this part or the reports and findings of any other available audits; and

• The applicant's ability to effectively implement statutory, regulatory, or other requirements imposed on non-Federal entities.

3. Application Selection Process

HUD will review each application from an eligible applicant and assign points in accordance with the selection factors described in this section.

(a) Application Screening and Acceptance

ONAP will screen and accept applications if they meet all the criteria listed below:

• The application is received or submitted in accordance with the requirements of this NOFA;

• The applicant is eligible to submit an application;

• The proposed project is eligible; and

• The application contains all of the applicable components listed in Section IV.B. of this NOFA.

(b) Threshold Compliance

HUD will review each application that passes the screening process to ensure that each applicant and each proposed project meets the eligibility and submission thresholds in the Eligibility Requirements and this NOFA.

(c) Past Performance

HUD will evaluate applicants' past performance under Rating Factor 1-Capacity of the Applicant.

(d) Rating

HUD will rate all eligible applications that meet the Threshold Requirements against the criteria in Rating Factors 1 through 3 and assign a rating score. The maximum total rating score for the three Rating Factors is 100 points. HUD will review and rate each application that meets the acceptance criteria and threshold requirements. Once all applications are rated, HUD will conduct a review to ensure consistency in the application rating.

(e) Minimum Points

To be considered for funding, the application must receive a minimum of 20 points under Rating Factor 1-Capacity of the Applicant, a minimum of 35 points under Rating Factor 3-Capacity to Administer the Program, and an overall score of at least 75 points. HUD will reject any application that does not meet the minimum rating score requirements.

(f) Ranked Order

HUD will place eligible applications that meet the minimum rating score requirements in ranked order. Funds will be awarded in rank order based on the score received on the application submitted under this NOFA. Applicants within the fundable range of 75 or more points will be considered for funding in ranked order up to the amount requested, or a lesser amount if sufficient funds are not available. Meeting the minimum score of 75 points does not guarantee a funding award will be made. HUD also reserves the right to adjust funding to meet urgent policy priorities. HUD reserves the right to issue a supplemental or independent NOFA if necessary (e.g., to ensure that all appropriated funds are awarded).

(g) Grant Award Adjustments

At its discretion, if HUD determines that there are not enough funds available to fully fund a project as proposed by a successful applicant, then HUD may contact the applicant to determine whether revisions can be made to the program budget, workplan narrative, and Implementation Schedule to reflect the actual award offer. If it is not possible to agree on a revised program budget, workplan narrative, and Implementation Schedule, then an award will not be made to that applicant. In such an instance, HUD may offer an award, in a rank order, to another applicant. HUD may also select additional applications for funding, in rank order, if additional funds become available. See also Adjustments to Funding information in section VI.A. below.

(h) Tiebreakers

When rating results in a tied score and there is not enough money to fund all tied scored applications, HUD will use the following factors in the order listed to resolve the tie:

1. HUD will approve applications that can be fully funded over those that cannot be fully funded;

2. Applicants that receive the most points according to Subfactor 3.2, Availability of Housing Stock;

3. Applicants that propose to leverage other funding sources to increase its housing stock for the use of eligible Veterans; and

4. Applicants that score the highest cumulative points for Rating Factor 1-Capacity of the Applicant and Rating Factor 2-Need.

(i) Additional Tribal HUD-VASH Funds

If, after publication of this NOFA, additional funds become available through additional appropriations or recaptured funds, HUD reserves the right to:

1. Award funding to additional applicants based on their score from this competition;

2. Use the additional funds to provide additional funding to an applicant awarded less than the original requested amount of funds to make the full award; and

3. Fund additional applicants that were eligible to receive an award but for which there were no funds available from the FY 2017 appropriations; and

4. Award funding to applicants that meet the funding errors category in section VI.A. below.

(j) Curable Deficiencies and Pre-Award Requirements:

• Curable Deficiencies: If there are curable deficiencies identified in successful applications, then applicants must satisfactorily address these deficiencies before HUD can make a grant award.

• Pre-Award Requirements: Successful applicants may have to provide supporting documentation concerning the management, maintenance, operation, or financing of proposed projects before a grant agreement can be executed. HUD may ask for additional information on the scope, magnitude, timing, budget, method of implementing the project or any proposed leveraging resources. HUD may also ask further information to verify the commitment of other resources required to complete, operate, or maintain the proposed project. HUD will notify applicants by email, facsimile, or via the U.S. Postal Service, return receipt requested. HUD will provide official notification to the authorized representative. Each applicant must provide accurate email addresses for receipt of these notifications and must monitor their email accounts to determine whether a notification has been received. Applicants will be provided no less than 48 hours and no more than fourteen (14) calendar days from the date of receipt of the HUD notification to respond to these requirements. No extensions will be provided. If the deadline date falls on a Saturday, Sunday, or Federal holiday, the response must be received by HUD on the next day that is not a Saturday, Sunday, or Federal holiday. If an applicant does not respond within the prescribed time period or makes an insufficient response, then ONAP will determine that the requirement has not been met and will withdraw the grant offer. Applicants may not substitute new projects for those originally proposed in the application and any new information will not affect the project's rating and ranking. The time period for calculating the response deadline for pre-award requirements begins on the day after receipt of the pre-award letter from ONAP.

(k) Agency Errors

Judgments made within the provisions of this NOFA and all program statutory and regulatory requirements are not subject to claim of error. There is no appeal process. An applicant may however, bring arithmetic errors in application scoring to the attention of HUD within 30 days of being informed of its score.

(l) Anticipated Announcement and Award Dates

Following the evaluation process, HUD will notify successful applicants of their selection for funding. HUD will also notify other applicants, whose applications were received by the deadline, but have not been chosen for awards. Notifications will be sent by email to the person listed as the Authorized Representative listed on the SF-424. HUD anticipates announcing awards under this NOFA approximately four to six months after the application due date.

Authority: 42 U.S.C. 3535(d); Consolidated and Further Continuing Appropriations Act, 2015 (Pub. L. 113-235, approved December 16, 2014); Consolidated Appropriations Act, 2017 (Pub. L. 115-31, approved May 5, 2017).

Dominique G. Blom,
General Deputy Assistant Secretary for Public and Indian Housing.

[FR Doc. 2021-06595 Filed 3-30-21; 8:45 am]

BILLING CODE 4210-67-P